FEDERAL MARITIME COMMISSION

Notice of Agreements Filed

The Commission hereby gives notice of the filing of the following agreement under the Shipping Act of 1984. Interested parties may submit comments on the agreement to the Secretary, Federal Maritime Commission, Washington, DC 20573, within twelve days of the date this notice appears in the Federal Register. Copies of the agreement are available through the Commission's website (www.fmc.gov) or by contacting the Office of Agreements at (202) 523-5793 or tradeanalysis@fmc.gov.

Agreement No.: 201217-003.

Title: Port of Long Beach Data Services Agreement.

Parties: Port of Long Beach; PierPass LLC; LBCT LLC; SSA Terminals (Pier A), LLC; International Transportation Service, Inc.; Pacific Maritime Services, L.L.C.; SSA Terminals, LLC; and Total Terminals International, LLC.

Filing Party: Jeff Vogel; Cozen O'Connor.

Synopsis: The amendment adds related provisions regarding the Port Drayage Truck Registry, extends the Agreement through July 1, 2021, and makes corrections to the names and addresses of some of the parties and administrative personnel. The parties request expedited review.

Agreement No.: 011279-030.

Title: Latin America Agreement.

Parties: Central America Discussion Agreement; Caribbean Shipowners Association; ABC Discussion Agreement; West Coast of South America Discussion Agreement; and Zim Integrated Shipping Services, Ltd.

Filing Party: Wayne Rohde; Cozen O'Connor.

Synopsis: The amendment deletes the Venezuelan Discussion Agreement and Libra as parties and corrects the addresses of the remaining parties to the Agreement.

Dated: June 21, 2018.
JoAnne D. O'Bryant,
Program Analyst.

[FR Doc. 2018-13729 Filed 6-25-18; 8:45 am]

BILLING CODE 6731-AA-P